DEPARTMENT OF HEALTH AND HUMAN SERVICES

National Institutes of Health

National Institute of Mental Health; Notice of Meeting

Pursuant to section 10(a) of the Federal Advisory Committee Act, as amended (5 U.S.C. App.), notice is hereby given of an Interagency Autism Coordinating Committee (IACC) meeting.

The purpose of the IACC meeting is to discuss recommendations for the annual update of the IACC Strategic Plan for Autism Spectrum Disorders Research. The meeting will be open to the public and will be accessible by webcast and conference call.

Name of Committee: Interagency Autism Coordinating Committee (IACC).

Type of Meeting: Open Full Committee Meeting.

Date: November 10, 2009.

Time: 9 a.m. to 5 p.m.* Eastern Time—* Approximate end time.

Agenda: To discuss recommendations for the annual update of the IACC Strategic Plan for Autism Spectrum Disorder Research.

Place: National Institute of Mental Health, 6001 Executive Boulevard, Neuroscience Center, Conference Rooms A1/A2, Rockville, MD 20852.

Webcast Live: http://videocast.nih.gov/.

Conference Call Access:

Dial: 888-577-8995.

Access code: 1991506.

Cost: The meeting is free and open to the public.

Registration: Pre-registration is recommended to expedite check-in. Seating is limited to room capacity and on a first come, first served basis. Online pre-registration will be available. Please visit the IACC Web site for pre-registration information: http://www.iacc.hhs.gov.

Access: Metro accessible—Red Line—White Flint Metro Station.

Contact Person: Ms. Lina Perez, Office of Autism Research Coordination, Office of the Director, National Institute of Mental Health, NIH, 6001 Executive Boulevard, NSC, Room 8200, Bethesda, MD 20892-9669, Phone: 301-443-6040, E-mail: IACCPublicInquiries@mail.nih.gov.

Please Note: Any member of the public interested in presenting oral comments to the Committee must notify the Contact Person listed on this notice at least 5 days in advance of the meeting. Interested individuals and representatives of organizations must submit a letter of intent, a brief description of the organization represented, and a written/electronic copy of the oral presentation/statement by 5 p.m. ET, November 6, 2009. A printed/electronic copy of the comment/statement provided by the deadline is required prior to the oral presentation; the document will become a part of the public record. Only one representative of an organization will be allowed to present oral comments and presentations will be limited to three to five minutes per speaker, depending on number of speakers to be accommodated within the allotted time. Speakers will be assigned a time to speak in order of the date and time when their request to speak is received, along with the required written statement submitted in advance of the meeting by November 6 at 5 p.m. ET.

In addition, any interested person may submit written comments to the IACC prior to the meeting by sending the statement to the Contact Person listed on this notice at least by 5 p.m. ET, November 6, 2009. The statement should include the name, address, telephone number and when applicable, the business or professional affiliation of the interested person. All written statements received by the deadline for both oral and written public comment will be provided to the IACC for their consideration.

The meeting will be open to the public through a conference call phone number and webcast live on the Internet. Individuals who participate in person or by using these electronic services and who need special assistance, such as captioning of the conference call or other reasonable accommodations, should submit a request at least 7 days prior to the meeting.

As a part of security procedures, attendees should be prepared to present a photo ID at the meeting registration desk during the check-in process. Pre-registration is recommended. Seating will be limited to the room capacity and seats will be on a first come, first served basis, with expedited check-in for those who are pre-registered.

Members of the public who participate using the conference call phone number will be able to listen to the meeting but will not be heard.

To access the webcast live on the Internet the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended)

Meeting schedule subject to change.

This meeting is being published less than 15 days prior to the meeting due to the timing limitations for completing the updating of the Annual Strategic Plan for Autism Spectrum Disorder Research.

Information about the IACC is available on the Web site: http://www.iacc.hhs.gov.

Dated: October 22, 2009.
Jennifer Spaeth,
Director, Office of Federal Advisory Committee Policy.

[FR Doc. E9-25991 Filed 10-27-09; 8:45 am]

BILLING CODE 4140-01-P